DEPARTMENT OF COMMERCE

National Oceanic and Atmospheric Administration

RIN 0648-XF323

New England Fishery Management Council; Public Meeting

AGENCY: National Marine Fisheries Service (NMFS), National Oceanic and Atmospheric Administration (NOAA), Commerce.

ACTION: Notice of a public meeting.

SUMMARY: The New England Fishery Management Council (Council, NEFMC) will hold a three-day meeting to consider actions affecting New England fisheries in the exclusive economic zone (EEZ).

DATES: The meeting will be held on Tuesday, Wednesday, and Thursday, April 18, 19, and 20, 2017, beginning at 9 a.m. on April 18, 8:30 a.m. on April 19, and 8:30 a.m. on April 20.

ADDRESSES: The meeting will be held at the Hilton Mystic, 20 Coogan Blvd., Mystic, CT 06355; telephone: (860) 572-0731; online at http://www3.hilton.com/en/hotels/connecticut/hilton-mystic-MYSMHHF/index.html.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, April 18, 2017

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, representatives from NOAA General Counsel and the Office of Law Enforcement, and staff from the Atlantic States Marine Fisheries Commission (ASMFC) and the U.S. Coast Guard. Following these reports, the Council will hear from its Scallop Committee, which will provide a progress report on 2017 work priorities. The Council also potentially may initiate a framework adjustment to the Atlantic Sea Scallop Fishery Management Plan to address Northern Gulf of Maine Management Area issues.

After a lunch break, the Council will hear from its Skate Committee, which will provide a summary of comments received during recent scoping hearings for Amendment 5 to the Northeast Skate Complex Fishery Management Plan. The Council also will review and may consider revising the existing control dates for the skate bait and skate non-bait (wing) fisheries. The Council will close out the day with a report from its Habitat Committee, which first will present an overview of input received during two mid-March coral workshops. These workshops were held in New Bedford, MA and Portsmouth, NH with active fishermen to help refine the alternatives in the Council's Draft Omnibus Deep-Sea Coral Amendment. The Council then will identify preferred alternatives in the amendment to send to public hearing. Finally, the Council will receive a progress report on the Clam Dredge Exemption Area Framework Adjustment, which is under development.

Wednesday, April 19, 2017

The second day of the meeting will begin with an Ecosystem Status Report by NEFSC staff to update the Council on the state of the Northeast Continental Shelf ecosystem. This report will be followed by an update from the Council's Ecosystem-Based Fishery Management Committee on developing a worked example of harvest control rules for ecosystem management. Next, the Northeast Fisheries Science Center will provide a presentation on the Standardized Bycatch Reporting Methodology and outline steps for improvement. GARFO staff will summarize the peer review that was conducted regarding in-season discard estimation methods, known as the Discard Methodology Review. Members of the public then will be able to speak during an open comment period on issues that relate to Council business but are not included on the published agenda for this meeting. The Council asks the public to limit remarks to 3-5 minutes.

After a lunch break, the Whiting Committee will be up first. The Council will review and is expected to approve the range of limited access, permitting, and possession limit alternatives for the Draft Environmental Impact Statement for Amendment 22 to the Northeast Multispecies Fishery Management Plan. Amendment 22, referred to as “the whiting amendment,” is focused on small-mesh multispecies. After that, the Council will spend the remainder of the afternoon on research-related issues. First, the Council will receive a report from its Research Steering Committee regarding the committee's review of collaborative research projects funded by the Council. Next, the Council is expected to approve 2017-22 research priorities. Finally, the Northeast Fisheries Science Center will provide a review of its Cooperative Research Program.

Thursday, April 20, 2017

The third day of the meeting will begin with a report from the Council Programmatic Review Steering Committee. The Council then is expected to approve a plan for conducting the review. Next, the Council will hear from its Atlantic Herring Committee, starting off with a presentation on the results of the mid-March Management Strategy Evaluation (MSE) Peer Review. MSE is being used to develop an acceptable biological catch (ABC) control rule for Amendment 8 to the Atlantic Herring Fishery Management Plan. The Council potentially may approve the range of alternatives for Amendment 8, including ABC control rule options and measures to address localized depletion and user conflicts. Following this discussion, the Council will review and approve comments on Addendum I to Amendment 3 of ASMFC's interstate Atlantic herring plan. Finally, the Council will receive an update from GARFO on its evaluation of incorporating portside data into herring catch cap quota monitoring.

Following a lunch break, the Council may resume its herring discussion if necessary. Then, the Council will address the Industry-Funded Monitoring (IFM) Omnibus Amendment. The Council will review the preferred alternatives it selected during its January meeting for both the amendment itself and for IFM monitoring for the Atlantic herring fishery. The Council may make clarifications to and/or changes to the preferred alternatives for the Atlantic Herring Industry Funded Monitoring Program. The Council is expected to take final action and vote to submit its preferred alternatives to NMFS. The Council will close out the meeting with “other business.”

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: March 27, 2017.
Tracey L. Thompson,
Acting Deputy Director, Office of Sustainable Fisheries, National Marine Fisheries Service.

[FR Doc. 2017-06280 Filed 3-29-17; 8:45 am]

BILLING CODE 3510-22-P